DEPARTMENT OF HOUSING AND URBAN DEVELOPMENT

[Docket No. FR-4950-FA-20]

Announcement of Funding Awards for the Section 811 Supportive Housing for Persons With Disablilities Program, Fiscal Year 2005

AGENCY: Office of the Assistant Secretary for Housing—Federal Housing Commissioner, HUD.

ACTION: Notice of funding awards.

SUMMARY: In accordance with section 102(a)(4)(C) of the Department of Housing and Urban Development Reform Act of 1989, this announcement notifies the public of funding decisions made by the Department in a competition for funding under the Super Notice of Funding Availability (SuperNOFA) for the Supportive Housing for Persons With Disabilities Program. This announcement contains the names of the awardees and the amounts of the awards made available by HUD.

FOR FURTHER INFORMATION CONTACT: Mr. Willie Spearmon, Director, Office of Housing Assistance and Grant Administration, 451 7th Street, SW., Washington, DC 20410; telephone (202) 708-3000 (this is not a toll-free number). Hearing- and speech-impaired persons may access this number via TTY by calling the Federal Relay Service toll-free at 1-800-877-8339. For general information on this and other HUD programs, visit the HUD Web site at http://www.hud.gov.

SUPPLEMENTARY INFORMATION: The Section 811 Supportive Housing for Persons With Disabilities Program is authorized by section 811 of the National Affordable Housing Act (42 U.S.C. 8013). The competition was announced in the SuperNOFA published in the Federal Register on March 21, 2005. Applications were rated and selected for funding on the basis of selection criteria contained in that Notice.

The Catalog of Federal Domestic Assistance number for this program is 14.181.

The Section 811 Supportive Housing for Persons With Disabilities Program is designed to provide capital advance funds to nonprofit organizations for the development of independent living projects, group homes and condominium units with the availability of supportive services for very low-income adults 18 years or older with disabilities. Project rental assistance contract funds are also provided to cover the difference between the HUD-approved operating costs of the project and the tenants' contributions for rent.

A total of $115,586,800 of capital advance funds and $20,178,500 of project rental assistance contract funds was awarded to 118 projects for 1,173 units nationwide. In accordance with section 102(a)(4)(C) of the Department of Housing and Urban Development Reform Act of 1989 (103 Stat. 1987, 42 U.S.C. 3545), the Department is publishing the grantees and amounts of the awards in Appendix A of this document.

Dated: November 7, 2006.
Frank L. Davis,
General Deputy Assistant Secretary for Housing.

Appendix A—Fiscal Year 2005 Awardees for Section 811 Supportive Housing for Persons With Disabilities Program

Alabama

Section 811—Supportive Housing for Persons With Disabilities

Project Location: Mobile, AL

Non-Profit Sponsor: Accessible Space

Capital Advance: $1,687,500

Five-year rental subsidy: $266,500

Number of units: 20

Project Location: Mobile, AL

Non-Profit Sponsor: VOA Southeast, Inc.

Capital Advance: $1,318,700

Five-year rental subsidy: $196,500

Number of units: 15

Project Location: Moulton, AL

Non-Profit Sponsor: Foundation Mental Health N Central AL

Capital Advance: $827,400

Five-year rental subsidy: $140,500

Number of units: 11

Alaska

Section 811—Supportive Housing for Persons With Disabilities

Project Location: Anchorage, AK

Non-Profit Sponsor: Anchorage Housing Initiatives

Capital Advance: $1,857,500

Five-year rental subsidy: $301,500

Number of units: 10

Arizona

Section 811—Supportive Housing for Persons With Disabilities

Project Location: Phoenix, AZ

Non-Profit Sponsor: Toby House, Inc.

Capital Advance: $1,982,200

Five-year rental subsidy: $297,500

Number of units: 20

Arkansas

Section 811—Supportive Housing for Persons With Disabilities

Project Location: Benton, AR

Non-Profit Sponsor: Birch Tree Communities

Capital Advance: $1,039,900

Five-year rental subsidy: $182,500

Number of units: 15

Project Location: Bryant, AR

Non-Profit Sponsor: Friendship Community Care Inc

Capital Advance: $889,000

Five-year rental subsidy: $156,500

Number of units: 13

Project Location: McGehee, AR

Non-Profit Sponsor: Albert Roland Jr., Inc

Co-Sponsor: Community Directions, Inc.

Capital Advance: $1,138,500

Five-year rental subsidy: $182,500

Number of units: 15

California

Section 811—Supportive Housing for Persons 2ith Disabilities

Project Location: Glendale, CA

Non-Profit Sponsor: UCP of LA & Ventura Counties

Capital Advance: $3,147,700

Five-year rental subsidy: $518,500

Number of units: 24

Project Location: Northridge, CA

Non-Profit Sponsor: TLC for the Blind

Capital Advance: $538,100

Five-year rental subsidy: $135,500

Number of units: 6

Project Location: Van Nuys, CA

Non-Profit Sponsor: Homes for Life Foundation

Capital Advance: $2,997,900

Five-year rental subsidy: $541,000

Number of units: 25

Colorado

Section 811—Supportive Housing for Persons With Disabilities

Project Location: Aurora, CO

Non-Profit Sponsor: Dev Path Inc

Capital Advance: $1,392,300

Five-year rental subsidy: $291,000

Number of units: 18

Project Location: Centennial, CO

Non-Profit Sponsor: Dev Path Inc

Capital Advance: $464,100

Five-year rental subsidy: $97,000

Number of units: 6

Project Location: Centennial, CO

Non-Profit Sponsor: Dev Path Inc

Capital Advance: $464,100

Five-year rental subsidy: $97,000

Number of units: 6

Project Location: Denver, CO

Non-Profit Sponsor: VOA Ntl Svcs

Capital Advance: $1,492,000

Five-year rental subsidy: $225,500

Number of units: 15

Project Location: Denver, CO

Non-Profit Sponsor: CommonWorks

Capital Advance: $767,000

Five-year rental subsidy: $97,000

Number of units: 6

Project Location: Fort Collins, CO

Non-Profit Sponsor: ASI

Capital Advance: $2,357,800

Five-year rental subsidy: $354,500

Number of units: 23

Project Location: LaJunta, CO

Non-Profit Sponsor: Tri Co Hsg & CDC

Capital Advance: $1,673,900

Five-year rental subsidy: $225,500

Number of units: 15

Connecticut

Section 811—Supportive Housing for Persons With Disabilities

Project Location: Hartford, CT

Non-Profit Sponsor: Broad-Park Development Corporation, Inc.

Capital Advance: $1,617,600

Five-year rental subsidy: $256,500

Number of units: 12

Project Location: New Haven, CT

Non-Profit Sponsor: Fellowship Place, Inc.

Capital Advance: $1,803,800

Five-year rental subsidy: $299,000

Number of units: 14

Delaware

Section 811—Supportive Housing for Persons With Disabilities

Project Location: Smyrna, DE

Non-Profit Sponsor: Krysti Bingham CP Fnd Inc

Co-Sponsor: Carelink Comm Support Svcs

Capital Advance: $459,600

Five-year rental subsidy: $123,500

Number of units: 6

Project Location: Smyrna, DE

Non-Profit Sponsor: The Arc of DE

Capital Advance: $812,900

Five-year rental subsidy: $165,000

Number of units: 8

Florida

Section 811—Supportive Housing for Persons With Disabilities

Project Location: Port Charlotte, FL

Non-Profit Sponsor: Goodwill Industries of SW Florida

Capital Advance: $1,638,600

Five-year rental subsidy: $208,500

Number of units: 14

Georgia

Section 811—Supportive Housing for Persons With Disabilities

Project Location: Austell, GA

Non-Profit Sponsor: Cobb ARC, Inc.

Capital Advance: $325,100

Five-year rental subsidy: $57,500

Number of units: 4

Project Location: Lafayette, GA

Non-Profit Sponsor: Volunteers of America Southeast Inc.

Capital Advance: $778,000

Five-year rental subsidy: $129,000

Number of units: 10

Project Location: Mableton, GA

Non-Profit Sponsor: Cobb ARC, Inc.

Capital Advance: $325,100

Five-year rental subsidy: $57,500

Number of units: 4

Illinois

Section 811—Supportive Housing for Persons With Disabilities

Project Location: Chicago, IL

Non-Profit Sponsor: Chicago House & Soc Ser Agency

Capital Advance: $975,800

Five-year rental subsidy: $90,000

Number of units: 6

Project Location: Joliet, IL

Non-Profit Sponsor: Cornerstone Services Inc

Capital Advance: $582,900

Five-year rental subsidy: $108,500

Number of units: 6

Project Location: Madison, IL

Non-Profit Sponsor: Chestnut Health Systems Inc

Capital Advance: $964,800

Five-year rental subsidy: $126,500

Number of units: 7

Project Location: Monmouth, IL

Non-Profit Sponsor: Warren Achievement Center

Capital Advance: $853,100

Five-year rental subsidy: $144,500

Number of units: 9

Project Location: Park Forest, IL

Non-Profit Sponsor: So Suburban Training and Rehabilitation Ser

Capital Advance: $582,900

Five-year rental subsidy: $108,500

Number of units: 6

Project Location: Pontiac, IL

Non-Profit Sponsor: Mosaic

Capital Advance: $1,076,300

Five-year rental subsidy: $162,500

Number of units: 9

Project Location: Rockford, IL

Non-Profit Sponsor: Accessible Space Inc

Co-Sponsor: Over the Rainbow Assoc

Capital Advance: $2,146,500

Five-year rental subsidy: $342,500

Number of units: 20

Indiana

Section 811—Supportive Housing for Persons With Disabilities

Project Location: Hobart, IN

Non-Profit Sponsor: Southlake Center for Mental health

Capital Advance: $1,605,000

Five-year rental subsidy: $227,000

Number of units: 15

Iowa

Section 811—Supportive Housing for Persons With Disabilities

Project Location: Marshalltown, IA

Non-Profit Sponsor: Center Associates

Capital Advance: $1,288,400

Five-year rental subsidy: $148,000

Number of units: 10

Project Location: Muscatine, IA

Non-Profit Sponsor: Muscatine Welfare Association

Capital Advance: $549,200

Five-year rental subsidy: $74,000

Number of units: 5

Kentucky

Section 811—Supportive Housing for Persons With Disabilities

Project Location: Campbellsville, KY

Non-Profit Sponsor: Christian Care Communities

Capital Advance: $326,100

Five-year rental subsidy: $46,000

Number of units: 3

Project Location: Campbellsville, KY

Non-Profit Sponsor: Christian Care Communities

Capital Advance: $326,100

Five-year rental subsidy: $46,000

Number of units: 3

Project Location: Independence, KY

Non-Profit Sponsor: Christian Care Communities

Capital Advance: $394,600

Five-year rental subsidy: $91,500

Number of units: 6

Project Location: Louisville, KY

Non-Profit Sponsor: Cedar Lake Lodge Inc

Capital Advance: $978,300

Five-year rental subsidy: $137,000

Number of units: 9

Louisiana

Section 811—Supportive Housing for Persons With Disabilities

Project Location: Jonesboro, LA

Non-Profit Sponsor: Macon Ridge Comm Dev Corp

Capital Advance: $1,137,800

Five-year rental subsidy: $196,500

Number of units: 15

Project Location: St. Martinville, LA

Non-Profit Sponsor: Arc of St. Martin

Capital Advance: $1,313,100

Five-year rental subsidy: $217,500

Number of units: 17

Maryland

Section 811—Supportive Housing for Persons With Disabilities

Project Location: Baltimore, MD

Non-Profit Sponsor: Aids Interfaith Residential Services, Inc

Capital Advance: $1,559,100

Five-year rental subsidy: $299,500

Number of units: 18

Project Location: Catonsville, MD

Non-Profit Sponsor: Family Service Foundation, Inc.

Capital Advance: $689,200

Five-year rental subsidy: $106,000

Number of units: 6

Project Location: Hagerstown, MD

Non-Profit Sponsor: Way Station, Inc.

Capital Advance: $789,600

Five-year rental subsidy: $205,500

Number of units: 12

Project Location: Reisterstown, MD

Non-Profit Sponsor: Prologue Inc.

Capital Advance: $706,700

Five-year rental subsidy: $141,000

Number of units: 8

Project Location: Severn, MD

Non-Profit Sponsor: Vesta, Inc.

Capital Advance: $748,200

Five-year rental subsidy: $171,500

Number of units: 10

Massachusetts

Section 811—Supportive Housing for Persons With Disabilities

Project Location: Framingham, MA

Non-Profit Sponsor: Advocates Inc

Capital Advance: $1,125,400

Five-year rental subsidy: $181,500

Number of units: 9

Project Location: Lansborough, MA

Non-Profit Sponsor: Berkshire County Acr

Capital Advance: $455,900

Five-year rental subsidy: $91,000

Number of units: 4

Project Location: Lexington, MA

Non-Profit Sponsor: Supportive Living Inc

Capital Advance: $1,070,400

Five-year rental subsidy: $204,000

Number of units: 9

Project Location: North Andover, MA

Non-Profit Sponsor: American Training Inc

Capital Advance: $493,900

Five-year rental subsidy: $91,000

Number of units: 4

Project Location: Southbridge, MA

Non-Profit Sponsor: Southern Worcester County Association for Retarded

Capital Advance: $1,000,400

Five-year rental subsidy: $159,000

Number of units: 8

Minnesota

Section 811—Supportive Housing for Persons With Disabilities

Project Location: Rogers, MN

Non-Profit Sponsor: National Handicap Housing Institute, Inc.

Capital Advance: $1,781,100

Five-year rental subsidy: $299,500

Number of units: 17

Mississippi

Section 811—Supportive Housing for Persons With Disabilities

Project Location: Vicksburg, MS

Non-Profit Sponsor: Warren-Yazoo Mental Health Services, Inc.

Capital Advance: $1,230,000

Five-year rental subsidy: $245,500

Number of units: 17

Missouri

Section 811—Supportive Housing for Persons With Disabilities

Project Location: Columbia, MO

Non-Profit Sponsor: RAIN of Central Missouri, Inc.

Capital Advance: $903,900

Five-year rental subsidy: $139,500

Number of units: 8

Project Location: Fredericktown, MO

Non-Profit Sponsor: Community Counseling Center, Inc.

Capital Advance: $1,694,800

Five-year rental subsidy: $244,000

Number of units: 15

Project Location: Kansas City, MO

Non-Profit Sponsor: The Community of the Good Shepherd

Capital Advance: $1,022,800

Five-year rental subsidy: $182,000

Number of units: 12

Project Location: St. Louis, MO

Non-Profit Sponsor: Third Ward Neighborhood Council

Capital Advance: $1,718,100

Five-year rental subsidy: $244,000

Number of units: 15

Project Location: Trenton, MO

Non-Profit Sponsor: Green Hills Community Action Agency

Capital Advance: $1,079,300

Five-year rental subsidy: $165,500

Number of units: 11

Nebraska

Section 811—Supportive Housing for Persons With Disabilities

Project Location: Sidney, NE

Non-Profit Sponsor: Panhandle Comm Ser

Co-Sponsor: Reg I Ofc of Human Devl

Capital Advance: $595,100

Five-year rental subsidy: $89,500

Number of units: 6

Nevada

Section 811—Supportive Housing for Persons With Disabilities

Project Location: Las Vegas, NV

Non-Profit Sponsor: Accessible Space, Inc.

Capital Advance: $2,501,200

Five-year rental subsidy: $392,500

Number of units: 24

New Jersey

Section 811—Supportive Housing for Persons With Disabilities

Project Location: Medford, NJ

Non-Profit Sponsor: Allies Inc

Capital Advance: $880,300

Five-year rental subsidy: $178,500

Number of units: 8

Project Location: Parsippany, NJ

Non-Profit Sponsor: Jewish Svc for Devl Dis of NJ

Capital Advance: $507,000

Five-year rental subsidy: $142,000

Number of units: 5

Project Location: Ridgewood, NJ

Non-Profit Sponsor: W Bergen Mtl Healthcare Inc

Capital Advance: $1,443,800

Five-year rental subsidy: $284,000

Number of units: 11

Project Location: Toms River, NJ

Non-Profit Sponsor: Ocean MH Svcs Inc

Capital Advance: $766,300

Five-year rental subsidy: $111,500

Number of units: 5

Project Location: Washington Township, NJ

Non-Profit Sponsor: Alternatives Inc

Capital Advance: $889,300

Five-year rental subsidy: $170,500

Number of units: 6

New Mexico

Section 811—Supportive Housing for Persons With Disabilities

Project Location: Clovis, NM

Non-Profit Sponsor: Eastern Plains Housing Dev Corp

Capital Advance: $1,059,700

Five-year rental subsidy: $208,500

Number of units: 14

New York

Section 811—Supportive Housing for Persons With Disabilities

Project Location: Farmingville, NY

Non-Profit Sponsor: Options for Community Living

Capital Advance: $1,287,700

Five-year rental subsidy: $295,000

Number of units: 9

Project Location: Flushing, NY

Non-Profit Sponsor: Transitional Services for New York Inc

Capital Advance: $1,175,200

Five-year rental subsidy: $328,000

Number of units: 10

Project Location: North Baldwin, NY

Non-Profit Sponsor: Nassau AHRC

Capital Advance: $951,700

Five-year rental subsidy: $262,500

Number of units: 8

Project Location: Spring Valley, NY

Non-Profit Sponsor: Camp Venture Inc

Capital Advance: $1,045,100

Five-year rental subsidy: $341,500

Number of units: 11

Project Location: Syracuse, NY

Non-Profit Sponsor: Humanitarian Org for Multicultural Exp, Inc.

Capital Advance: $930,000

Five-year rental subsidy: $148,000

Number of units: 9

North Carolina

Section 811—Supportive Housing for Persons With Disabilities

Project Location: Asheville, NC

Non-Profit Sponsor: WNC Housing

Capital Advance: $591,700

Five-year rental subsidy: $91,500

Number of units: 6

Project Location: Cary, NC

Non-Profit Sponsor: The Serving Cup

Co-Sponsor: LUTH Family SER of Carolinas,

The ARC of North Carolina Inc

Capital Advance: $699,200

Five-year rental subsidy: $91,500

Number of units: 6

Project Location: Charlotte, NC

Non-Profit Sponsor: MH Assn in North Carolina, Inc.

Co-Sponsor: NC Mental Health Consumers Org

Capital Advance: $662,400

Five-year rental subsidy: $54,900

Number of units: 6

Project Location: Concord, NC

Non-Profit Sponsor: MH Assn in North Carolina, Inc.

Co-Sponsor: NC Mental Health Consumers Org

Capital Advance: $500,500

Five-year rental subsidy: $45,900

Number of units: 5

Project Location: Gastonia, NC

Non-Profit Sponsor: 1st Presbytery of the ARP Church

Capital Advance: $1,201,200

Five-year rental subsidy: $182,500

Number of units: 12

Project Location: Lincolnton, NC

Non-Profit Sponsor: UMAR-WNC Inc

Capital Advance: $473,100

Five-year rental subsidy: $91,500

Number of units: 6

Project Location: Waynesville, NC

Non-Profit Sponsor: MH Assn in North Carolina, Inc.

Co-Sponsor: NC Mental Health Consumers Org

Capital Advance: $1,479,200

Five-year rental subsidy: $127,800

Number of units: 15

North Dakota

Section 811—Supportive Housing for Persons With Disabilities

Project Location: Williston, ND

Non-Profit Sponsor: Comm Action Partnership

Capital Advance: $828,500

Five-year rental subsidy: $109,500

Number of units: 8

Ohio

Section 811—Supportive Housing for Persons With Disabilities

Project Location: Akron, OH

Non-Profit Sponsor: Oriana House

Capital Advance: $781,600

Five-year rental subsidy: $145,500

Number of units: 8

Project Location: Canton, OH

Non-Profit Sponsor: Quest Recovery Services

Capital Advance: $405,400

Five-year rental subsidy: $109,000

Number of units: 6

Project Location: Cincinnati, OH

Non-Profit Sponsor: The Resident Home Corporation

Capital Advance: $793,000

Five-year rental subsidy: $130,500

Number of units: 8

Project Location: Cleveland, OH

Non-Profit Sponsor: Oriana House

Capital Advance: $362,800

Five-year rental subsidy: $73,000

Number of units: 4

Project Location: Columbus, OH

Non-Profit Sponsor: Community Housing Network, Inc.

Capital Advance: $1,438,200

Five-year rental subsidy: $225,500

Number of units: 15

Project Location: Cuyahoga Falls, OH

Non-Profit Sponsor: Ohio Multi-County Development Corporation

Co-Sponsor: Community Health Center

Capital Advance: $388,400

Five-year rental subsidy: $109,000

Number of units: 6

Project Location: Grove City, OH

Non-Profit Sponsor: Creative Housing, Inc

Capital Advance: $646,200

Five-year rental subsidy: $129,000

Number of units: 8

Project Location: North Ridgeville, OH

Non-Profit Sponsor: Neighborhood Development Services Inc

Capital Advance: $378,700

Five-year rental subsidy: $73,000

Number of units: 4

Project Location: North Ridgeville, OH

Non-Profit Sponsor: Neighborhood Development Services, Inc.

Capital Advance: $378,700

Five-year rental subsidy: $73,000

Number of units: 4

Project Location: Toledo, OH

Non-Profit Sponsor: Luther Home of Mercy

Capital Advance: $1,136,100

Five-year rental subsidy: $218,000

Number of units: 12

Project Location: West Carrollton, OH

Non-Profit Sponsor: Miami Valley In-Ovations, Inc.

Capital Advance: $584,500

Five-year rental subsidy: $98,000

Number of units: 6

Project Location: Whitehouse, OH

Non-Profit Sponsor: Bittersweet Inc

Capital Advance: $1,088,200

Five-year rental subsidy: $218,000

Number of units: 12

Oklahoma

Section 811—Supportive Housing for Persons With Disabilities

Project Location: Broken Arrow, OK

Non-Profit Sponsor: VOA Ntl Svcs

Capital Advance: $739,200

Five-year rental subsidy: $126,500

Number of units: 9

Project Location: Heavener, OK

Non-Profit Sponsor: KI BOIS Comm Action Found

Capital Advance: $263,700

Five-year rental subsidy: $56,500

Number of units: 4

Project Location: McAlester, OK

Non-Profit Sponsor: KI BOIS Comm Action Found

Capital Advance: $298,200

Five-year rental subsidy: $84,500

Number of units: 6

Oregon

Section 811—Supportive Housing for Persons With Disabilities

Project Location: Newberg, OR

Non-Profit Sponsor: Families United For Independent Living

Co-Sponsor: Tualatin Valley Housing Partners

Capital Advance: $1,597,500

Five-year rental subsidy: $221,000

Number of units: 15

Pennsylvania

Section 811—Supportive Housing for Persons With Disabilities

Project Location: Erie, PA

Non-Profit Sponsor: HANDS, Inc.

Capital Advance: $713,600

Five-year rental subsidy: $131,500

Number of units: 8

Project Location: Meadville, PA

Non-Profit Sponsor: HANDS, Inc.

Capital Advance: $713,600

Five-year rental subsidy: $131,500

Number of units: 8

Project Location: Philadelphia, PA

Non-Profit Sponsor: Columbus Prop Mgmt & Dev Inc

Capital Advance: $1,050,600

Five-year rental subsidy: $223,000

Number of units: 10

Project Location: Steelton, PA

Non-Profit Sponsor: Affordable Hsg Assoc of Dauphin Co

Co-Sponsor: Ctr for Ind Liv Central PA, Inc.

Tri-County HDC, Ltd.

Capital Advance: $1,162,500

Five-year rental subsidy: $267,500

Number of units: 12

Project Location: Wexford, PA

Non-Profit Sponsor: Spina Bifida Assoc of Western PA

Capital Advance: $1,248,800

Five-year rental subsidy: $230,500

Number of units: 14

Puerto Rico

Section 811—Supportive Housing for Persons With Disabilities

Project Location: Mayaguez, PR

Non-Profit Sponsor: Aso. Mayaguezana de Personas con Impedimentos

Capital Advance: $410,300

Five-year rental subsidy: $84,500

Number of units: 6

Project Location: Mayaguez, PR

Non-Profit Sponsor: Aso. Mayaguezana de Personas con Impedimentos

Capital Advance: $410,300

Five-year rental subsidy: $84,500

Number of units: 6

Project Location: Mayaguez, PR

Non-Profit Sponsor: Aso. Mayaguezana de Personas con Impedimentos

Capital Advance: $410,300

Five-year rental subsidy: $84,500

Number of units: 6

Rhode Island

Section 811—Supportive Housing for Persons With Disabilities

Project Location: Central Falls, RI

Non-Profit Sponsor: Gateway Healthcare Inc

Capital Advance: $1,189,300

Five-year rental subsidy: $211,500

Number of units: 10

Project Location: Hopkinton, RI

Non-Profit Sponsor: South Shore Mental Health Center

Capital Advance: $1,189,300

Five-year rental subsidy: $211,500

Number of units: 10

South Carolina

Section 811—Supportive Housing for Persons With Disabilities

Project Location: Orangeburg, SC

Non-Profit Sponsor: Aldersgate Special Needs Ministry, Inc.

Capital Advance: $466,300

Five-year rental subsidy: $84,500

Number of units: 6

Tennessee

Section 811—Supportive Housing for Persons With Disabilities

Project Location: Jamestown, TN

Non-Profit Sponsor: Cumberland Regional Development Corp.

Capital Advance: $951,100

Five-year rental subsidy: $140,500

Number of units: 10

Project Location: Shelbyville, TN

Non-Profit Sponsor: Buffalo Valley, Inc.

Capital Advance: $1,494,100

Five-year rental subsidy: $188,500

Number of units: 15

Texas

Section 811—Supportive Housing for Persons With Disabilities

Project Location: Denton, TX

Non-Profit Sponsor: Denton Affordable Housing Corp

Capital Advance: $717,100

Five-year rental subsidy: $122,000

Number of units: 8

Project Location: Houston, TX

Non-Profit Sponsor: MHMRA of Harris County

Capital Advance: $1,077,500

Five-year rental subsidy: $211,500

Number of units: 15

Virginia

Section 811—Supportive Housing for Persons With Disabilities

Project Location: Buena Vista, VA

Non-Profit Sponsor: Rockbridge Mental Health Clinic Advisory Board,Inc

Capital Advance: $376,700

Five-year rental subsidy: $95,000

Number of units: 6

Project Location: Exmore, VA

Non-Profit Sponsor: ASI

Capital Advance: $1,213,200

Five-year rental subsidy: $221,000

Number of units: 15

Washington

Section 811—Supportive Housing for Persons With Disabilities

Project Location: Walla Walla, WA

Non-Profit Sponsor: Blue Mountain Action

Capital Advance: $719,700

Five-year rental subsidy: $115,000

Number of units: 8

West Virginia

Section 811—Supportive Housing for Persons With Disabilities

Project Location: Wayne, WV

Non-Profit Sponsor: Prestera Ctr for MH Svcs

Capital Advance: $526,200

Five-year rental subsidy: $102,000

Number of units: 6

Wisconsin

Section 811—Supportive Housing for Persons With Disabilities

Project Location: Marshfield, WI

Non-Profit Sponsor: Impact Seven Inc

Capital Advance: $1,010,400

Five-year rental subsidy: $132,500

Number of units: 9

Wyoming

Section 811—Supportive Housing for Persons With Disabilities

Project Location: Sheridan, WY

Non-Profit Sponsor: East Seal Good North R M 2

Capital Advance: $295,700

Five-year rental subsidy: $68,500

Number of units: 5

Project Location: Sheridan, WY

Non-Profit Sponsor: East Seal Good North R M 1

Capital Advance: $1,017,300

Five-year rental subsidy: $205,500

Number of units: 16

[FR Doc. E6-19399 Filed 11-16-06; 8:45 am]

BILLING CODE 4210-67-P